FEDERAL RESERVE SYSTEM

Sunshine Act Meeting

AGENCY HOLDING THE MEETING: Board of Governors of the Federal Reserve System.

Time and Date: 10 a.m., Wednesday, December 13, 2000.

PLACE: Marriner S. Eccles Federal Reserve Board Building, C Street entrance between 20th and 21st Streets, NW., Washington, DC 20551

Status: Open.

Matters to be Considered:

Summary Agenda

Because of its routine nature, no discussion of the following item is anticipated. This matter will be voted on without discussion unless a member of the Board requests that the item be moved to the discussion agenda.

1. Proposed amendments to Regulation Y (Bank Holding Companies and Change in Bank Control) to authorize financial holding companies to act as a “finder” by bringing buyers and sellers together for transactions that the parties themselves negotiate and consummate (proposed earlier for public comment; Docket No. R-1078).

Discussion Agenda

2. Publication for comment of proposed amendments to Regulation Z (Truth in Lending) related to potentially abusive practices in home mortgage lending. (Comments were solicited earlier on possible revisions; Docket No. R-1075.)

3. Consideration of a proposal for comment to amend Regulation Y (Bank Holding Companies and Change in Bank Control) to (a) increase the amount of nonfinancial data processing permissible for bank and financial holding companies and (b) allow financial holding companies to own companies engaged in certain data processing activities in connection with the provision of financial products and services.

4. Publication for comment of proposed amendments to Regulation Y (Bank Holding Companies and Change in Bank Control) that would permit financial holding companies to provide general real estate brokerage and real estate management services.

5. Proposed 2001 Federal Reserve Bank budgets.

6. Any items carried forward from a previously announced meeting.

Note: This meeting will be recorded for the benefit of those unable to attend.

Cassettes will then be available for listening in the Board's Freedom of Information Office, and copies can be ordered for $6 per cassette by calling 202-452-3684 or by writing to: Freedom of Information Office, Board of Governors of the Federal Reserve System, Washington, DC 20551.

Contact Person for More Information: Lynn S. Fox, Assistant to the Board; 202-452-3204.

Supplementary Information: You may call 202-452-3206 for a recorded announcement of this meeting; or you may contact the Board's Web site at http://www.federalreserve.gov for an electronic announcement. (The Web site also includes procedural and other information about the open meeting.)

Dated: December 6, 2000.
Robert deV. Frierson,
Associate Secretary of the Board.

[FR Doc. 00-31439 Filed 12-6-00; 2:12 pm]

BILLING CODE 6210-01-P